DEPARTMENT OF TRANSPORTATION

Federal Aviation Administration

Fifth Meeting: Special Committee 209, Air Traffic Control Radar Beacon Systems (ATCRBS)/Mode S Transponder

AGENCY: Federal Aviation Administration (FAA), DOT.

ACTION: Notice of RTCA Special Committee 209, ATCRBS/Mode S Transponder.

SUMMARY: The FAA is issuing this notice to advise the public of a meeting of RTCA Special Committee 209, Air Traffic Control Radar Beacon Systems (ATCRBS)/Mode S Transponder.

DATES: The meeting will be held December 5-7, 2006, from 9 a.m.-5 p.m.

ADDRESSES: The meeting will be held at RTCA Inc., 1828 L Street, Suite 805, Washington, DC 20036.

FOR FURTHER INFORMATION CONTACT: (1) RTCA Secretariat, 1828 L Street, NW., Suite 805, Washington, DC 20036; telephone (202) 833-9339; fax (202) 833-9434; Web site http://www.rtca.org, (2) Host Contact: Hal Moses; telephone (202) 833-9339, e-mail hmoses@rtca.org, (3) Secretary Contact: Gary Furr; telephone (609) 485-4254, e-mail gary.ctr.furr@faa.gov.

SUPPLEMENTARY INFORMATION: Pursuant to section 10(a)(2) of the Federal Advisory Committee Act (Pub. L. 92-463, 5 U.S.C., Appendix 2), notice is hereby given for a Special Committee 209 meeting. The agenda will include:

December 5-7:

• Opening Plenary Session (Welcome, Introductions, and Administrative Remarks, Review/Approval of Agenda, Review/Approval of Minutes from Meeting #4).

• Report from Team creating and revising Appendix B.

• Draft v1.3 of the Proposed Appendix B.

• Summary of the Status of Appendix B for MSSS.

• Report from Team restructuring and making revisions to DO-181C.

• Draft version 0.5 of DO-181D.

• Comparison Matrix of Differences between DO-181C and v0.5.

• Consolidated Comments against draft v0.5 of DO-181D.

• Report from the Team reviewing the update of Test Procedures.

• Status of the ED-73B/DO-181C Requirements Comparison data base.

• Status of the coordination with EUROCAE WG-49.

• Review of Status of Work Related to DO-144A (to be held at a specific time; to be announced).

• Review of Status of Action Items.

• Closing Plenary Session (Other Business, Discussion of Agenda for Next Meeting, Date, Place and Time of Future Meeting, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, November 16, 2006.
Francisco Estrada C.,
RTCA Advisory Committee.

[FR Doc. 06-9505 Filed 12-4-06; 8:45 am]

BILLING CODE 4910-13-M